ENVIRONMENTAL PROTECTION AGENCY

40 CFR Part 52

[NH-01-48-7174b; A-1-FRL-7376-4]

Approval and Promulgation of Air Quality Implementation Plans; New Hampshire; Prevention of Significant Deterioration (PSD) of Air Quality Permit Requirements

AGENCY: Environmental Protection Agency (EPA).

ACTION: Proposed rule.

SUMMARY: EPA is proposing to approve a State Implementation Plan (SIP) revision submitted by the State of New Hampshire. The revision consists of a new rule, PART Env-A 623, “Prevention of Significant Deterioration of Air Quality Permitting,” that adopts into New Hampshire's SIP the federal PSD program provisions. The SIP revision also amends New Hampshire's permit procedural rule, PART Env-A 205, “Permit Notice and Hearing Procedures: Temporary Permits and Permits to Operate,” that make the rule consistent with the new state PSD rule. In another document published elsewhere in this issue of the Federal Register, EPA is approving the State's SIP submittal as a direct final rulemaking. The action will ensure that New Hampshire and EPA will interpret and enforce the same PSD rules providing regulatory certainty to the state's regulated community. The approval of this revision will make New Hampshire's PSD program consistent with the federal plan requirements for a SIP-approved PSD program.

DATES: Written comments must be received on or before November 27, 2002.

ADDRESSES: Comments may be mailed to Steven A. Rapp, Air Permits, Toxics, and Indoor Programs, Office of Ecosystem Protection (mail code CAP), U.S. Environmental Protection Agency, EPA-New England, One Congress Street, Suite 1100, Boston, MA 02114-2023. Copies of the State submittal and EPA's technical support document are available for public inspection during normal business hours, by appointment at the Office of Ecosytem Protection, U.S. Environmental Protection Agency, Region I, One Congress Street, 11th floor, Boston, MA and the Department of Environmental Services, 64 North Main Street, Caller Box 2033, Concord, NH 03302-2033.

FOR FURTHER INFORMATION CONTACT: Brendan McCahill, (617) 918-1652. E-mail at McCahill.Brendan@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules section of this Federal Register.

Dated: September 3, 2002.
Robert W. Varney,
Regional Administrator, EPA New England.

[FR Doc. 02-25858 Filed 10-25-02; 8:45 am]

BILLING CODE 6560-50-P